DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species.

DATES: Written data, comments or requests must be received by February 22, 2005.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address above).

PRT-094572

Applicant: Albert Einstein College of Medicine, Bronx, NY.

The applicant requests a permit to import samples obtained from wild Kemp's ridley sea turtle (Lepidochelys kempii), olive ridley sea turtle (Lepidochelys olivacea), hawksbill sea turtle (Eretmochelys imbricata), green sea turtle (Chelonia mydas), leatherback sea turtle (Dermochelys coriacea), for the purpose of scientific research. This notification covers activities to be conducted by the applicant over a five-year period.

PRT-700877

Applicant: Bishop Museum, Honolulu, HI.

The applicant requests renewal of a permit to export and re-import museum specimens of endangered and threatened species previously accessioned into the applicant's collection for scientific research. This notification covers activities to be conducted by the applicant over a five-year period.

PRT-095598

Applicant: Saint Louis Zoo, MO.

The applicant requests a permit to import biological samples from selected species of lemurs and aye-aye within the genera, Daubentonia, Eulemer, Hapalemur, Lemur, Lepilemur, Propithecus, and Varecia, collected from wild specimens in Madagascar for scientific research. This notification covers activities to be conducted by the applicant over a five-year period.

PRT-094969

Applicant: Henry Doorly Zoo, Omaha, NE.

The applicant requests a permit to import biological samples from several species of lemurs of the genera, Allocebus, Avahi, Cheirogaleus, Eulemer, Hapalemur, Indri, Lemur, Lepilemur, Microcebus, Phaner, Propithecus, and Varecia; from the aye-aye, (Daubentonia madagascariensis); and from the tortoises, Geochelone radiata and G. yniphora; collected from wild specimens in Madagascar for scientific research. This notification covers activities to be conducted by the applicant over a five-year period.

PRT-096480

Applicant: Matthew R. Ochs, Worthville, PA.

The applicant requests a permit to import the sport-hunted trophy of one male bontebok (Damaliscus pygargus pygargus) culled from a captive herd maintained under the management program of the Republic of South Africa, for the purpose of enhancement of the survival of the species.

PRT-097298

Applicant: The Dallas Zoo, Dallas, TX.

The applicant requests a permit to import one male and two female captive born Sumatran tigers (Panthera tigris sumatrae) from the Toronto Zoo, Toronto, Ontario, Canada, for the purpose of the enhancement of propagation and survival of the species.

PRT-096003

Applicant: USDA Forest Service, Pacific SW Research Station, Arcata, CA.

The applicant requests a permit to export biological samples from Point Arena Mountain Beaver (Aplodontia rufa nigra) collected from specimens in the wild for the purpose of scientific research. This notification covers activities to be conducted by the applicant over a five-year period.

Dated: December 3, 2004.
Monica Farris,
Senior Permit Biologist, Branch of Permits, Division of Management Authority.

[FR Doc. 05-1132 Filed 1-19-05; 8:45 am]

BILLING CODE 4310-55-P